DEPARTMENT OF TRANSPORTATION

Pipeline and Hazardous Materials Safety Administration

[Docket No. PHMSA-05-20920]

Pipeline Safety: Meeting on Pipeline Repairs and Permitting

AGENCY: Office of Pipeline Safety (OPS), Pipeline and Hazardous Materials Safety Administration (PHMSA), DOT.

ACTION: Notice of meeting

SUMMARY: On May 6, 2005, OPS will hold a meeting to discuss pipeline repairs and permitting. This meeting provides the pipeline industry an opportunity to share its experience with making pipeline repairs and obtaining permits.

ADDRESSES: The May 6, 2005, meeting will be held at the Hyatt Regency Reston Hotel, 1800 Presidents Street, Reston, VA 20190. The telephone number to call for reservations at the Hyatt Regency Reston Hotel is (703) 925-8225. The particular meeting room will be posted by the hotel the day of the meeting.

FOR FURTHER INFORMATION CONTACT: Mike Khayata, OPS, (404) 832-1155 or Rita Freeman-Kelly, OPS (202) 366-5443 about the subject matter in this notice.

SUPPLEMENTARY INFORMATION:

Integrity Management Program

The nation's existing pipeline infrastructure requires regular safety and environmental reviews to ensure its reliability and safety. To further strengthen safety of the pipeline infrastructure and following pipeline ruptures in Bellingham, Washington, and Carlsbad, New Mexico, OPS developed the integrity management program (IMP) requirements. OPS amended 49 CFR part 195 to require operators of pipelines transporting hazardous liquid pipeline facilities to ensure the integrity of pipeline segments that, in the event of a leak or rupture, could impact High Consequence Areas (HCAs), which are populated areas, areas unusually sensitive to environmental damage, and commercially navigable waterways. As part of the IMP requirements operators must (1) identify HCAs relevant to their pipelines; (2) systematically identify risks to those segments of pipelines that could affect HCAs; and (3) address those risks through specified methods.

While OPS was developing the gas IMP requirements, Congress passed the Pipeline Safety Improvement Act of 2002 (PSIA), (Pub. L. 107-355; codified at 49 U.S.C. 60101 et seq.). The PSIA mandated that PHMSA (formerly the Research and Special Programs Administration) adopt regulations for gas integrity management. The regulations addressing gas integrity management programs are addressed in 49 CFR part 192, subpart O.

Both the liquid and gas IMP requirements establish a timetable for the initial inspection and periodic re-inspection of pipelines. Pipeline defects are categorized according to detailed IMP criteria, with specific repair actions and timeframes for each, depending on the severity of the defect. OPS designed its approach to achieve greater safety by establishing performance-based requirements that allow operators to determine the most appropriate inspection processes and technologies to use in their integrity management programs.

Operators now have some experience with IMP and have expressed concerns to OPS about their ability to make repairs within the required timeframes.

Permit Streamlining

Section 16 of the PSIA directed Federal agencies with responsibility over pipeline repairs to participate in an Interagency Committee (IAC) and enter into a Memorandum of Understanding (MOU) to provide a coordinated and expedited pipeline repair permit review process. In 2003, the IAC was established to implement a coordinated environmental review and permitting process that allows pipeline repairs to be completed within the timeframes specified in 49 CFR parts 192 and 195.

The IAC, organized by the Council on Environmental Quality (CEQ) (which oversees and assists all IAC member Federal agencies with their efforts to expedite their review of permits), includes representatives of Federal agencies with responsibilities for pipeline repair projects. In June 2004, participating Federal agencies signed the MOU on “Coordination of Environmental Reviews for Pipeline Repair Projects.” The MOU identifies the roles and responsibilities of each party, thereby improving the permitting process coordination. In signing this MOU, the IAC intends to expedite the environmental permit process while maintaining safety, pubic health, and environmental protections. The IAC therefore recognizes that early planning, notice, and consultation among pipeline operators and various Federal agencies can result in timely decisions enabling critical repair actions to move forward within the context of resource conservation.

During the June 2004 Oversight Hearing on Pipeline Safety, CEQ Chairman James Connaughton identified four initiatives that the IAC would explore to improve the permit streamlining process: (1) Early consultation and coordination to minimize impacts on energy supply and price; (2) consolidation of existing permitting processes; and (3) adoption of best practices for repairs and consideration of categorical exclusions under the National Environmental Policy Act; and (4) identification of instances where permit delays, specific issues, and additional authorizations prevent time-sensitive repairs under current regulations. Improving the process will help ensure that timely decisions are made to enable pipeline repairs to occur within the time periods specified by 49 CFR Parts 192 and 195, while ensuring the environmental review and permitting responsibilities of participating Federal agencies are achieved.

During the meeting, OPS would like participants to discuss the repair process, repair criteria, and the agency permitting process. During the discussion on the repair process, and in exploring ways to streamline the permit process, OPS would like participants to share the type of experience they have had with the repair process, e.g., pipeline assessment, excavations, and nature of repairs. For the repair criteria, OPS would like participants to describe their experience with factors that allow them to meet or prevent them from meeting the repair criteria defined in the gas or hazardous liquid IMP regulations. OPS would also like participants to share their experience with the Federal permitting process, such as the type of permits requested, and the average time it takes to obtain permits.

The agenda for this meeting will include a discussion on:

• Repair Process

• Repair Criteria

• Agency Permitting Process

OPS plans to establish a docket and place the record of the meeting in the docket (http://www.dms.gov). Interested persons may also submit their views to the docket following the meeting.

Authority: 49 U.S.C. 60102 and 60133.

Issued in Washington, DC on April 6, 2005.
Theodore L. Willke,
Deputy Associate Administrator for Pipeline Safety.

[FR Doc. 05-7267 Filed 4-6-05; 3:46 pm]

BILLING CODE 4910-60-P